DEPARTMENT OF DEFENSE

Department of the Navy

[DoD-2006-OS-105]

Privacy Act of 1974; System of Records

AGENCY: Department of the Navy, DoD.

ACTION: Notice to alter a system of records.

SUMMARY: The Department of the Navy proposes to alter a system of records notice in its existing inventory of records systems subject to the Privacy Act of 1974, (5 U.S.C. 552a), as amended.

DATES: This proposed action will be effective without further notice on June 30, 2006 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's systems of records notices subject to the Privacy Act of 1974, (5 U.S.C. 552a), as amended, have been published in the Federal Register and are available from the address above.

The proposed system reports, as required by 5 U.S.C. 552a(r), of the Privacy Act of 1974, as amended, were submitted on May 23, 2006, to the House Committee on gGvernment Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: May 24, 2006.
L.M. Bynum,
OSD Federal Register Liaison Officer, Department of Defense.

NM05100-5

System name:

Enterprise-wide Safety Applications Management System (ESAMS) (March 7, 2005, 70 FR 10996).

Changes:

* * * * *

System name:

Delete “-wide”.

System location:

Delete entry and replace with: “HGW and Associates, LLCI, Suite A-100, 9000 Executive Park Drive, Knoxville, TN 37923-4685 and organizational elements of the Department of the Navy. Official mailing addresses are published in the Standard Navy Distribution List that is available at http://neds.daps.dla.mil/sndl.htm.”

Categories of individuals covered by the system:

Delete entry and replace with “Department of Navy (DON) military and civilian personnel, non-appropriated personnel, foreign national military and civilian personnel, other U.S. Government personnel, or contractors, who work or receive support from the U.S. Navy, ashore and/or afloat.”

Categories of records in the system:

Delete entry and replace with: “Name, Social Security Number, date of birth, job title, rank/rate/grade, civilian/military/foreign nationals/contractors indicator, unit identification code (UIC), activity name, major command code, department, sex, training/certifications received, test scores, occupational medical stressors, date of last physical and non-diagnostic information concerning health readiness/restrictive duty, respirator usage and fit test results, chemical and/or environmental exposures, and occupational injuries/illnesses.”

* * * * *

Purpose(s):

Delete energy and replace with: “To ensure all individuals receive required safety, fire, police force protection, and emergency management training courses necessary to perform assigned duties and comply with Federal, DoD, and Navy related regulations.”

Routine uses of records maintained in the system, including categories of users and the purposes of such uses:

Delete second paragraph and replace with: “To the Occupational Safety and Health Administration (OSHA) during the course of an on-site inspection.”

Storage:

Delete entry and replace with: “Computerized database and paper records.”

* * * * *

Retention and disposal:

Delete entry and replace with: “Paper records are retained at the local command for a minimum for five years. Computerized database is retained for the duration of employment plus 30 years and then destroyed.”

System manager(s) and address:

Add new first paragraph as follows: “Policy Official: Commander, Navy Installations Command, 2713 Mitscher Road SW., Ste 300, Anacostia Annex, DC 20373-5802.”

* * * * *

Record source categories:

Delete entry and replace with “Individual; personnel files; non-diagnostic extracts from medical records that address medical readiness/restrictions; and office files.

* * * * *

NM05100-5

System name:

Enterprise Safety Applications Management System (ESAMS).

System Location:

HGW and Associates, LLCI, Suite A-100, 9000 Executive Park Drive, Knoxville, TN 37923-4685 and organizational elements of the Department of the Navy. Official mailing addresses are published in the Standard Navy Distribution List that is available at http://neds.daps.dla.mil/sndl.htm.

Categories of individuals covered by the system:

Department of Navy (DON) military and civilian personnel, non-appropriated personnel, foreign national military and civilian personnel, other U.S. Government personnel, or contractors, who work or receive support from the U.S. Navy, ashore and/or afloat.

Categories of records in the system:

Name, Social Security Number, date of birth, job title, rank/rate/grade, civilian/military/foreign nationals/contractors indicator, unit identification code (UIC), activity name, major command code, department, sex, training/certifications received, test scores, occupational medical stressors, date of last physical and non-diagnostic information concerning health readiness/restrictive duty, respirator usage and fit test results, chemical and/or environmental exposures, and occupational injuries/illnesses.

Authority for maintenance of the system:

5 U.S.C. 4101-4118, the Government Employees Training Act of 1958; 10 U.S.C. 5013, Secretary of the Navy; 10 U.S.C. 5042, Commandant of the Marine Corps; E.O. 12196, Occupational Safety and Health Programs for Federal Employees; and DoD Instruction 6055.7, Accident Investigation, Reporting, and Record Keeping; and E.O. 9397 (SSN).

Purpose(s):

To ensure all individuals receive required safety, fire, police, force protection, and emergency management training courses necessary to perform assigned duties and comply with Federal, DoD, and Navy related regulations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Occupational Safety and Health Administration (OSHA) during the course of an on-site inspection.

The DoD “Blanket Routine Uses” that appear at the beginning of the Navy's compilation of systems of records notices apply to this system.

Policies and practices for storing, retrieving, accessing, retaining, and disposing of records in the system:

Storage:

Computerized database and paper records.

Retrievability:

Retrieved by individual's name and Social Security Number.

Safeguards:

Computer facilities and terminals pre located in restricted areas accessible only to authorized persons that are properly screened, cleared and trained. Information is password protected. Manual records and computer printouts are available only to authorized personnel having a need-to-know.

Retention and disposal:

Paper records are retained at the local command for a minimum of five years. Computerized database is retained for the duration of employment plus 10 years and then destroyed.

System manager(s) and address:

Policy Official: Commander, Navy Installations Command, 2713 Mitscher Road SW Ste 300, Anacostia Annex, DC 20373-5802.

Record Holder: Organizational elements of the Department of the Navy. Official mailing addresses are published in the Standard Navy Distribution List that is available at: http://neds.daps.dia.mil/sndl.htm.

Notification procedure:

Individuals seeking to determine whether information about themselves is contained in this system of records should address written inquiries to the Commanding Officer of the local activity. Official mailing addresses are published in the Standard Navy Distribution List that is available at http://neds.daps.dia.mil/sndl.htm.

The request should contain individual's full name, Social Security Number, address and should be signed.

Record access procedures:

Individuals seeking to access the information about themselves contained in this system of records not accessible through system interfaces should address written inquiries to the Commanding Officer of the local activity. Official mailing addresses are published in the Standard Navy Distribution List that is available at http://neds.daps.dla.mil/sndl.htm.

The request should contain the individual's full name, Social Security Number, address and should be signed.

Contesting record procedures:

The Navy's rules for accessing records, and for contesting contents and appealing initial agency determinations are published in Secretary of the Navy Instruction 5211.5; 32 CFR part 701; or may be obtained from the system manager.

Record source categories:

Individual; personnel files; non-diagnostic extracts from medical records that address medical readiness/ restrictions; and office files.

Exemptions claimed for the system:

None.

[FR Doc. 06-4958 Filed 5-30-06; 8:45 am]

BILLING CODE 5001-06-M